DEPARTMENT OF COMMERCE

National Institute of Standards and Technology

Visiting Committee on Advanced Technology

AGENCY: National Institute of Standards and Technology, Department of Commerce.

ACTION: Notice of public meeting.

SUMMARY: The Visiting Committee on Advanced Technology (VCAT or Committee), National Institute of Standards and Technology (NIST), will meet by webinar in an open session on Monday, May 8, 2017 from 2:00 p.m. to 4:00 p.m. Eastern Time. The VCAT is composed of not fewer than 9 members appointed by the NIST Director, a majority of whom are eminent in such fields as business, research, new product development, engineering, labor, education, management consulting, environment, and international relations.

DATES: The VCAT will meet on Monday, May 8, 2017, from 2:00 p.m. to 4:00 p.m. Eastern Time.

ADDRESSES: The meeting will be conducted by webinar. Please note instructions under the SUPPLEMENTARY INFORMATION section of this notice for participation.

FOR FURTHER INFORMATION CONTACT: Serena Martinez, VCAT, NIST, 100 Bureau Drive, Mail Stop 1060, Gaithersburg, Maryland 20899-1060, telephone number 301-975-2661. Mrs. Martinez's email address is serena.martinez@nist.gov.

SUPPLEMENTARY INFORMATION:

Authority: 15 U.S.C. 278, as amended, and the Federal Advisory Committee Act, as amended, 5 U.S.C. App.

The purpose of this meeting is for the VCAT to review and make recommendations regarding general policy for NIST, its organization, its budget, and its programs within the framework of applicable national policies as set forth by the President and the Congress. The agenda will include an update of the Committee's progress in addressing NIST's role in the Administration's priorities in the areas of trade, innovation and competitiveness through fundamental measurement research and development, and communications, and a discussion on next steps. The agenda may change to accommodate Committee business. The final agenda will be posted on the NIST Web site at http://www.nist.gov/director/vcat/agenda.cfm.

Members of the public can listen to the discussion. The meeting is available to the public through a toll-free call-in number. When you register by email to Mrs. Serena Martinez, serena.martinez@nist.gov, with your name, organization affiliated with (if any), and email address, the toll-free call-in information, including passcode, will be provided to you. Callers can expect to incur regular charges for calls they initiate over wireless lines, according to their wireless plan. The Committee will not refund any incurred charges. Callers will incur no charges for calls they initiate over land-line connections to the toll-free call-in number. Individuals and representatives of organizations who would like to offer comments and suggestions related to the Committee's affairs are invited to request a place on the agenda by email to stephanie.shaw@nist.gov, no later than May 1, 2017 by 5:00 p.m. Eastern Time. Approximately fifteen minutes will be reserved for public comments and speaking times will be assigned on a first-come, first-serve basis. The amount of time per speaker will be determined by the number of requests received, but is likely to be about 3 minutes each. The exact time for public comments will be included in the final agenda that will be posted on the NIST Web site at http://www.nist.gov/director/vcat/agenda.cfm. Questions from the public will not be considered during this period. Speakers who wish to expand upon their oral statements, and those who had wished to speak but could not be accommodated on the agenda, are invited to submit written statements to VCAT, NIST, 100 Bureau Drive, MS 1060, Gaithersburg, Maryland, 20899, via fax at 301-216-0529 or electronically by email to stephanie.shaw@nist.gov.

Kevin Kimball,
NIST Chief of Staff.

[FR Doc. 2017-06366 Filed 3-30-17; 8:45 am]

BILLING CODE 3510-13-P